DEPARTMENT OF TRANSPORTATION

Federal Aviation Administration

14 CFR Parts 11 and 91

[Docket No. FAA-2002-12261; Amendment Nos. 11-49 and 91-276]

RIN 2120-AH68

Reduced Vertical Separation Minimum in Domestic United States Airspace

AGENCY: Federal Aviation Administration (FAA), DOT.

ACTION: Final rule; technical amendment.

SUMMARY: This document corrects the effective date of a final rule published in the Federal Register on October 27, 2003 (68 FR 61304). That rule permits the initiation of Reduced Vertical Separation Minimum (RVSM) flights in the airspace over the contiguous 48 States of the United States, the District of Columbia, Alaska, that portion of the Gulf of Mexico where the Federal Aviation Administration (FAA) provides air traffic services, the San Juan Flight Information Region (FIR), and the airspace between Florida and the San Juan FIR. The RVSM programs allows the use of 1,000-foot vertical separation at certain altitudes between aircraft that meet stringent altimeter and certain altitudes between aircraft that meet stringent altimeter and autopilot performance requirements. The October 27, 2003, rule also requires any aircraft that is equipped with Traffic Alert and Collision Avoidance System version II (TCAS II) and flown in RVSM airspace to incorporate a version of TCAS II software that is compatible with RVSM operations. This document corrects the effective date.

EFFECTIVE DATE: In this rule amendments numbers 2, 5, 7, 9, and 11 are effective December 17, 2003. In this rule amendments numbers 3, 6, 8, 10, and 12 are effective January 26, 2004.

FOR FURTHER INFORMATION CONTACT: Robert Swain, telephone (202) 385-4576.

SUPPLEMENTARY INFORMATION: On October 27, 2003, we published in the Federal Register a final rule entitled, “Reduced Vertical Separation Minimum in Domestic United States”. The Reduced Vertical Separation Minimum (RVSM) program allows the use of 1,000-foot vertical separation at certain altitudes between aircraft that meet stringent altimeter and autopilot performance requirements. The rule also requires any aircraft that is equipped with Traffic Alert and Collision Avoidance System version II (TCAS II) and flown in RVSM airspace to incorporate a version of TCAS II software that is compatible with RVSM operations. This action is to assist aircraft operators to save fuel and time, to enhance air traffic control flexibility, and to enhance airspace capacity. The effective date of the October 27, 2003, rule was inadvertently given as November 26, 2003.

The Office of Management and Budget (OMB) declared that the October 27, 2003, final rule is a major rule. Thus we should have given January 26, 2004, as the effective date in accordance with 5 U.S.C. 801(a)(4). However, we erroneously incorporated an incorrect effective date of October 1, 2003. This document changes the effective date of the October 27, 2003, rule to January 26, 2004.

List of Subjects

14 CFR Part 11

Administrative practice and procedure, Reporting and record-keeping requirements.

14 CFR Part 91

Air-traffic control, Aircraft, Airmen, Airports, Aviation safety, Reporting and record-keeping requirements.

The Amendment

For the reasons discussed in the preamble, the Federal Aviation Administration amends parts 11 and 91 of Title 14 of the Code of Federal Regulations as follows:

PART 11—GENERAL RULEMAKING PROCEDURES

1. The authority citation for part 11 continues to read as follows:

Authority: 49 U.S.C. 106(g), 40101, 40103, 40105, 40109, 40113, 44110, 44502, 44701-44702, 44711, and 46102.

Subpart B—Paperwork Reduction Act Control Numbers

2. Effective December 17, 2003, amend the table in § 11.201(b) by revising the entry for part 91 to read as follows:

§ 11.201 Office of Management and Budget (OMB) control numbers assigned under the Paperwork Reduction Act.

* * * * *

(b) * * *

14 CFR part or section identified and described | Current OMB control number
* * * * * * *
Part 91 | 2120-0005, 2120-0026, 2120-0027, 2120-0573, 2120-0606, 2120-0620, 2120-0631, 2120-0651
* * * * * * *

3. Effective January 26, 2004, amend the table in § 11.201(b) by revising the entry for part 91 to read as follows:

§ 11.201 Office of Management and Budget (OMB) control numbers assigned under the Paperwork Reduction Act.

* * * * *

(b) * * *

14 CFR part or section identified and described | Current OMB control number
* * * * * * *
Part 91 | 2120-0005, 2120-0026, 2120-0027, 2120-0573, 2120-0606, 2120-0620, 2120-0631, 2120-0651, 2120-0679
* * * * * * *

PART 91—GENERAL OPERATING AND FLIGHT RULES

4. The authority citation for part 91 continues to read as follows:

Authority: 49 U.S.C. 106(b), 1155, 40103, 40113, 40120, 44101, 44111, 44701, 44709, 44711, 44712, 44715, 44716, 44717, 44722, 46306, 46315, 46316, 46540, 46505-46507, 47122, 47508, 47528-47531, articles 12 and 29 of the Convention on International Civil Aviation (61 stat. 1180).

5. Effective December 17, 2003, amend § 91.159 by revising paragraph (b) to read as follows and by adding paragraph (c) to read as follows:

§ 91.159 VFR cruising altitude or flight level.

* * * * *

(b) When operating above 18,000 feet MSL to flight level 290 (inclusive) and—

(1) On a magnetic course of zero degrees through 179 degrees, any odd flight level +500 feet (such as 195, 215, or 235); or

(2) On a magnetic course of 180 degrees through 359 degrees, any even flight level +500 feet (such as 185, 205, or 225).

(c) When operating above flight level 290 and—

(1) On a magnetic course of zero degrees through 179 degrees, any flight level, at 4,000-foot intervals, beginning at and including flight level 300 (such as flight level 300, 340, or 380) or

(2) On a magnetic course of 180 degrees through 359 degrees, any flight level, at 4,000-foot intervals, beginning at and including flight level 320 (such as flight level 320, 360, or 400).

6. Effective January 26, 2004, amend § 91.159 by revising paragraph (b) to read as follows and by removing paragraph (c).

§ 91.159 VFR cruising altitude or flight level.

* * * * *

(b) When operating above 18,000 feet MSL, maintain the altitude or flight level assigned by ATC.

7. Effective December 17, 2003, amend § 91.179 by revising paragraph (b)(3) introductory text and removing paragraph (b)(4) to read as follows:

§ 91.179 IFR cruising altitude or flight level.

* * * * *

(b) * * *

(3) When operating at flight level 290 and above airspace, and—

* * * * *

8. Effective January 26, 2004, amend § 91.179 by revising paragraph (b)(3) introductory text and adding a new paragraph (b)(4) to read as follows:

§ 91.179 IFR cruising altitude or flight level.

(b) * * *

(3) When operating at flight level 290 and above in non-RVSM airspace, and—

* * * * *

(4) When operating at flight level 290 and above in airspace designated as Reduced Vertical Separation Minimum (RVSM) airspace and—

(i) On a magnetic course of zero degrees through 179 degrees, any odd flight level, at 2,000-foot intervals beginning at and including flight level 290 (such as flight level 290, 310, 330, 350, 370, 390, 410); or

(ii) On a magnetic course of 180 degrees through 359 degrees, any even flight level, at 2000-foot intervals beginning at and including flight level 300 (such as 300, 320, 340, 360, 380, 400).

§ 91.180 [Removed]

9. Effective December 17, 2003, remove § 91.180 from subpart B.

10. Effective January 26, 2004, add § 91.180 to subpart B to read as follows:

§ 91.180 Operations within airspace designated as Reduced Vertical Separation Minimum airspace.

(a) Except as provided in paragraph (b) of this section, no person may operate a civil aircraft in airspace designated as Reduced Vertical Separation Minimum (RVSM) airspace unless:

(1) The operator and the operator's aircraft comply with the minimum standards of appendix G of this part; and

(2) The operator is authorized by the Administrator or the country of registry to conduct such operations.

(b) The Administrator may authorize a deviation from the requirements of this section.

11. Effective December 17, 2003, in Appendix G, amend section 5 by revising the introductory text; redesignating paragraph (a) as paragraph (2) and revising newly redesignated paragraph (2); and amend section 8 by removing paragraphs (d), (e), and (f) to read as follows:

Appendix G to Part 91—Operations in Reduced Vertical Separation Minimum (RVSM) Airspace

* * * * *

Section 5. Deviation Authority Approval

The Administrator may authorize an aircraft operator to deviate from the requirements of § 91.706 for a specific flight in RVSM airspace if that operator has not been approved in accordance with Section 3 of this appendix, and if:

(2) The operator submits an appropriate request with the air traffic control center controlling the airspace, (request should be made at least 48 hours in advance of the operation unless prevented by exceptional circumstances); and

* * * * *

12. Effective January 26, 2004, in Appendix G, amend section 5 by revising the introductory text; redesignating paragraph (2) as paragraph (a) and by revising newly redesignated (a); and amend section 8 by adding new paragraphs (d), (e), and (f) to read as follows:

Appendix G to Part 91—Operations in Reduced Vertical Separation Minimum (RVSM) Airspace

* * * * *

Section 5. Deviation Authority Approval

The Administrator may authorize an aircraft operator to deviate from the requirements of § 91.180 or § 91.706 for a specific flight in RVSM airspace if that operator has not been approved in accordance with section 3 of this appendix if:

(a) The operator submits a request in a time and manner acceptable to the Administrator; and

* * * * *

Section 8. Airspace Designation

* * * * *

(d) RVSM in the United States. RVSM may be applied in the airspace of the 48 contiguous states, District of Columbia, and Alaska, including that airspace overlying the waters within 12 nautical miles of the coast.

(e) RVSM in the gulf of Mexico. RVSM may be applied in the Gulf of Mexico in the following areas: Gulf of Mexico High Offshore Airspace, Houston Oceanic ICAO FIR and Miami Oceanic ICAO FIR.

(f) RVSM in Atlantic High Offshore Airspace and the San Juan FIR. RVSM may be applied in Atlantic High Offshore Airspace and in the San Juan ICAO FIR.

Issued in Washington, DC, on December 11, 2003.
Donald P. Byrne,
Assistant Chief Counsel.

[FR Doc. 03-31096 Filed 12-16-03; 8:45 am]

BILLING CODE 4910-13-M